SECURITIES AND EXCHANGE COMMISSION

[OMB Control No. 3235-0240]

Submission for OMB Review; Comment Request; Extension: Rule 0-2, Form ADV-NR

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget a request for extension of the previously approved collection of information discussed below.

The title for the collection of information is “Rule 0-2 and Form ADV-NR under the Investment Advisers Act of 1940.” Rule 0-2 and Form ADV-NR facilitate service of process on a non-resident investment adviser, and an investment adviser's non-resident general partner and non-resident managing agent. Form ADV-NR designates the Secretary of the Commission, among others, as the non-resident general partner's or non-resident managing agent's agent for service of process. The collection of information is necessary for the Commission to obtain appropriate consent to permit the Commission and other parties to bring actions against non-resident partners and agents for violations of the federal securities laws and to enable the commencement of legal and regulatory actions against investment advisers that are doing business in the United States, but are not residents.

The respondents to this information collection are each non-resident general partner and non-resident managing agent of both SEC-registered investment advisers and exempt reporting advisers. Based on our experience with Form ADV-NR filings, we estimate we will receive 41 Form ADV-NR filings annually, each taking one hour to complete, for an aggregate annual time burden of 41 hours. We estimate no external cost burden.

Rule 0-2 and Form ADV-NR do not require recordkeeping or records retention. The collection of information requirements under the rule and form are mandatory. The information collected pursuant to Rule 0-2 and Form ADV-NR is a filing with the Commission and is not kept confidential.

An agency may not conduct or sponsor, and a person is not required to respond to, a collection of information unless it displays a currently valid OMB Control Number.

Written comments are invited on: (a) whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

The public may view and comment on this information collection request at: https://www.reginfo.gov/public/do/PRAViewICR?ref_nbr=202501-3235-023 or send an email comment to MBX.OMB.OIRA.SEC_desk_officer@omb.eop.gov within 30 days of the day after publication of this notice by May 9, 2025.

Dated: April 2, 2025.
Sherry R. Haywood,
Assistant Secretary.

[FR Doc. 2025-05988 Filed 4-7-25; 8:45 am]

BILLING CODE 8011-01-P